DEPARTMENT OF HEALTH AND HUMAN SERVICES

Centers for Disease Control and Prevention

Board of Scientific Counselors, Office of Public Health Preparedness and Response; Meetings

In accordance with section 10(a)(2) of the Federal Advisory Committee Act (Pub. L. 92-463), the Centers for Disease Control and Prevention (CDC), announces the following meeting of the aforementioned committee:

Time and Date: 3 p.m.-5 p.m., EDT, August 19, 2016.

Place: Web conference via Adobe Connect.

Link: https://ophpr-bsc.adobeconnect.com/august2016/.

Dial-In Number: (877)327-8109.

Participant Code: 2108386.

Status: This meeting is open to the public.

Purpose: This Board is charged with providing advice and guidance to the Secretary, HHS, the Assistant Secretary for Health (ASH), the Director, CDC, and the Director, Office of Public Health Preparedness and Response (OPHPR), concerning strategies and goals for the programs and research within OPHPR, monitoring the overall strategic direction and focus of the OPHPR Divisions and Offices, and administration and oversight of peer review of OPHPR scientific programs.

For additional information about the Board, please visit: http://www.cdc.gov/phpr/science/counselors.htm.

Matters for Discussion: The meeting will cover administrative updates; updates from the Director, OPHPR; status updates on BSC recommendations from the April 11-12, 2016 BSC Meeting; and deliberation on potential topics for the October 25-26, 2016 BSC Meeting. Agenda items are subject to change as priorities dictate.

Contact Person for More Information: Dometa Ouisley, Office of Science and Public Health Practice, Centers for Disease Control and Prevention, 1600 Clifton Road NE., Mailstop D-44, Atlanta, Georgia 30333, Telephone: (404) 639-7450; Facsimile: (404)639-7977; Email: OPHPR.BSC.Questions@cdc.gov.

The Director, Management Analysis and Services Office, has been delegated the authority to sign Federal Register notices pertaining to announcements of meetings and other committee management activities for both the Centers for Disease Control and Prevention, and Agency for Toxic Substances and Disease Registry.

Catherine Ramadei,
Acting Director, Management Analysis and Service Office, Centers for Disease Control and Prevention.

[FR Doc. 2016-17826 Filed 7-27-16; 8:45 am]

BILLING CODE 4163-18-P